DEPARTMENT OF COMMERCE

International Trade Administration

[A-549-840]

Carbon and Alloy Steel Threaded Rod From Thailand: Antidumping Duty Order

AGENCY: Enforcement and Compliance, International Trade Administration, Department of Commerce.

SUMMARY: Based on affirmative final determinations by the Department of Commerce (Commerce) and the International Trade Commission (ITC), Commerce is issuing an antidumping duty order on carbon and alloy steel threaded rod from Thailand.

DATES: Applicable December 13, 2019.

FOR FURTHER INFORMATION CONTACT: Emily Halle or Robert Scully, AD/CVD Operations, Office V, Enforcement and Compliance, International Trade Administration, U.S. Department of Commerce, 1401 Constitution Avenue NW, Washington, DC 20230, telephone: (202) 482-0176 or (202) 482-0572, respectively.

SUPPLEMENTARY INFORMATION:

Background

In accordance with sections 735(d) and 777(i)(1) of the Tariff Act of 1930, as amended (the Act), and 19 CFR 351.210(c), on October 21, 2019, Commerce published its affirmative final determination in the less-than-fair-value (LTFV) investigation, including its affirmative determination of critical circumstances, with respect to imports of carbon and alloy steel threaded rod from Thailand.¹ On December 5, 2019, the ITC notified Commerce of its final determination pursuant to section 735(b)(1)(A)(i) of the Act that an industry in the United States is materially injured by reason of the LTFV imports of carbon and alloy steel threaded rod from Thailand, and its determination that critical circumstances do not exist with respect to imports of subject merchandise from Thailand.²

¹ See Carbon and Alloy Steel Threaded Rod from Thailand: Final Affirmative Determination of Sales at Less Than Fair Value and Final Affirmative Determination of Critical Circumstances, 84 FR 56162 (October 21, 2019).

² See Notification Letter from the ITC, dated December 5, 2019.

Scope of the Order

The merchandise covered by this order is carbon and alloy steel threaded rod from Thailand. For a complete description of the scope of the order, see the appendix to this notice.

Antidumping Duty Order

On December 5, 2019, in accordance with section 735(d) of the Act, the ITC notified Commerce of its final determination in this investigation, in which it found that an industry in the United States is materially injured within the meaning of section 735(b)(1)(A)(i) of the Act by reason of imports of carbon and alloy steel threaded rod from Thailand sold at LTFV, and further found that critical circumstances do not exist with respect to imports of subject merchandise from Thailand. Therefore, in accordance with section 735(c)(2) of the Act, Commerce is issuing this antidumping duty order.

Because the ITC determined that an industry in the United States is materially injured by imports of carbon and alloy steel threaded rod from Thailand that are sold at LTFV, section 736(b)(1) of the Act is applicable. Accordingly, Commerce will instruct U.S. Customs and Border Protection (CBP) to assess, upon further instruction by Commerce, antidumping duties equal to the amount by which the normal value of the carbon and alloy steel threaded rod from Thailand exceeds the export price (or constructed export price) of the merchandise for entries of carbon and alloy steel threaded rods from Thailand which are entered, or withdrawn from warehouse, for consumption on or after August 7, 2019, the date of publication of the Preliminary Determination.³ We will not include entries occurring after the expiration of the provisional measures period and before the date of publication of the ITC's final affirmative determination under section 735(b) of the Act, as further described below.

³ See Carbon and Alloy Steel Threaded Rod from Thailand: Preliminary Determination of Sales at Less Than Fair Value, Preliminary Affirmative Determination of Critical Circumstances, 84 FR 38597 (August 7, 2019) (Preliminary Determination).

Suspension of Liquidation

In accordance with section 736 of the Act, Commerce will instruct CBP to suspend liquidation of all appropriate entries of carbon and alloy steel threaded rod from Thailand as described in the appendix to this notice which are entered, or withdrawn from warehouse, for consumption on or after the date of publication of the ITC's notice of final determination in the Federal Register. We will also instruct CBP to require, at the same time as importers would normally deposit estimated customs duties on this merchandise, cash deposits for the subject merchandise equal to the estimated weighted average dumping margins listed below. The all-others rate applies to all producers or exporters not specifically listed.

In accordance with section 736(b)(2) of the Act, Commerce will instruct CBP to release any bond or other security, and refund any cash deposit made to secure the payment of antidumping duties with respect to entries of the merchandise entered, or withdrawn from warehouse, for consumption before the date of publication of the ITC's final affirmative determination under section 735(b) of the Act. Further, Commerce will instruct CBP to terminate the suspension of liquidation of, and to liquidate without regard to antidumping duties, entries of carbon and alloy steel threaded rod from Thailand which are entered, or withdrawn from warehouse, for consumption prior to the date of publication of the ITC's affirmative determination under section 735(b) of the Act.

Provisional Measures

Section 733(d) of the Act states that instructions issued pursuant to an affirmative preliminary determination may not remain in effect for more than four months, except where exporters representing a significant proportion of exports of the subject merchandise request Commerce to extend that four-month period to no more than six months. Because no party requested an extension of provisional measures, provisional measures were in effect beginning on the date of publication of the Preliminary Determination and ending on December 5, 2019. Pursuant to section 737(b) of the Act, the collection of cash deposits at the rates listed above will begin on the date of publication of the ITC's final injury determination in the Federal Register.

Therefore, in accordance with section 733(d) of the Act and our practice, we will instruct CBP to terminate the suspension of liquidation and to liquidate, without regard to antidumping duties, unliquidated entries of carbon and alloy steel threaded rod from Thailand entered, or withdrawn from warehouse, for consumption on or after December 5, 2019, the date on which the provisional measures expired, until and through the day preceding the date of publication of the ITC's final injury determination in the Federal Register. Suspension of liquidation will resume on the date of publication of the ITC's final determination in the Federal Register.

Critical Circumstances

In its final determination, the ITC did not make an affirmative critical circumstances finding with respect to imports of subject merchandise from Thailand that were subject to Commerce's final affirmative critical circumstances determination. Accordingly, Commerce will instruct CBP to lift suspension and to refund any cash deposits made to secure the payment of estimated antidumping duties with respect to entries of subject merchandise entered, or withdrawn from warehouse, for consumption on or after May 9, 2019 (i.e., 90 days prior to the date of publication of the Preliminary Determination), but before August 7, 2019 (i.e., the publication date of the Preliminary Determination).

Estimated Weighted-Average Dumping Margins

The weighted-average dumping margins are as follows:

Exporter/producer | Weighted- average dumping margin (percent)
Tycoons Worldwide Group (Thailand) Co. Ltd | 20.83
All Others | 20.83

Notification to Interested Parties

This notice constitutes the antidumping duty order with respect to carbon and alloy steel threaded rod from Thailand pursuant to section 736(a) of the Act. Interested parties can find a list of antidumping duty orders currently in effect at http://enforcement.trade.gov/stats/iastats1.html.

This order is issued and published in accordance with section 736(a) of the Act and 19 CFR 351.211(b).

Dated: December 6, 2019.
Jeffrey I. Kessler,
Assistant Secretary for Enforcement and Compliance.

Appendix

Scope of the Order

The merchandise covered by the scope of this investigation is carbon and alloy steel threaded rod. Steel threaded rod is certain threaded rod, bar, or studs, of carbon or alloy steel, having a solid, circular cross section of any diameter, in any straight length. Steel threaded rod is normally drawn, cold-rolled, threaded, and straightened, or it may be hot-rolled. In addition, the steel threaded rod, bar, or studs subject to these investigations are non-headed and threaded along greater than 25 percent of their total actual length. A variety of finishes or coatings, such as plain oil finish as a temporary rust protectant, zinc coating (i.e., galvanized, whether by electroplating or hot-dipping), paint, and other similar finishes and coatings, may be applied to the merchandise.

Steel threaded rod is normally produced to American Society for Testing and Materials (ASTM) specifications ASTM A36, ASTM A193 B7/B7m, ASTM A193 B16, ASTM A307, ASTM A320 L7/L7M, ASTM A320 L43, ASTM A354 BC and BD, ASTM A449, ASTM F1554-36, ASTM F1554-55, ASTM F1554 Grade 105, American Society of Mechanical Engineers (ASME) specification ASME B18.31.3, and American Petroleum Institute (API) specification API 20E. All steel threaded rod meeting the physical description set forth above is covered by the scope of these investigations, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of this investigation if performed in the country of manufacture of the threaded rod.

Carbon and alloy steel threaded rod are also included in the scope of this investigation whether or not imported attached to, or in conjunction with, other parts and accessories such as nuts and washers. If carbon and alloy steel threaded rod are imported attached to, or in conjunction with, such non-subject merchandise, only the threaded rod is included in the scope.

Excluded from the scope of this investigation is: (1) Threaded rod, bar, or studs which are threaded only on one or both ends and the threading covers 25 percent or less of the total actual length; and (2) stainless steel threaded rod, defined as steel threaded rod containing, by weight, 1.2 percent or less of carbon and 10.5 percent or more of chromium, with our without other elements.

Excluded from the scope of the antidumping investigation on steel threaded rod from the People's Republic of China is any merchandise covered by the existing antidumping order on Certain Steel Threaded Rod from the People's Republic of China. See Certain Steel Threaded Rod from the People's Republic of China: Notice of Antidumping Duty Order, 74 FR 17154 (April 14, 2009).

Specifically excluded from the scope of this investigation is threaded rod that is imported as part of a package of hardware in conjunction with a ready-to-assemble piece of furniture.

Steel threaded rod is currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

[FR Doc. 2019-27044 Filed 12-12-19; 8:45 am]

BILLING CODE 3510-DS-P